DEPARTMENT OF DEFENSE

GENERAL SERVICES ADMINISTRATION

NATIONAL AERONAUTICS AND SPACE ADMINISTRATION

48 CFR Part 52

[FAC 2001-18; Item VIII]

Federal Acquisition Regulation; Technical Amendments

Correction

In rule document 03-30479 beginning on page 69258 in the issue of Thursday, December 11, 2003 make the following corrections:

52.211-2 [Corrected]

1. On page 69259, in the first column, in section 52.211-2, in the third line ““(Jan 2004)” ” should read ““(Dec 2003)” ”.

52.225-13 [Corrected]

2. On the same page, in section 52.225-13, in the third line ““(Jan 2004)” ” should read ““(Dec 2003)” ”.

[FR Doc. C3-30479 Filed 1-8-04; 8:45 am]

BILLING CODE 1505-01-D

DEPARTMENT OF HOMELAND SECURITY

Coast Guard

33 CFR Part 165

[CGD05-03-204]

RIN 1625-AA00

Safety/Security Zone; Cove Point Liquefied Natural Gas Terminal, Chesapeake Bay, Maryland

Correction

In rule document 03-31788 beginning on page 75134 in the issue of Tuesday, December 30, 2003 make the following correction:

PART 165 — [CORRECTED]

On page 75135, in the third column, in amendatory instruction 2., in the second line, “February 4, 2004” should read “January 28, 2004”.

[FR Doc. C3-31788 Filed 1-8-04; 8:45 am]

BILLING CODE 1505-01-D